DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before February 11, 2010.

Address Comments to: Record Center, Pipeline and Hazardous Materials, Safety Administration, U.S. Department of Transportation, Washington, DC 20590.

Comments should refer to the application number and be submitted in triplicate. If confirmation of receipt of comments is desired, include a self-addressed stamped postcard showing the special permit number.

For Further Information: Copies of the applications are available for inspection in the Records Center, East Building, PHH-30, 1200 New Jersey Avenue, Southeast, Washington, DC or at http://regulations.gov.

This notice of receipt of applications for modification of special permit is published in accordance with part 107 of the Federal hazardous materials transportation law (49 U.S.C. 5117(b); 49 CFR 1.53(b)).

Issued in Washington, DC, on January 12, 2010.
Delmer F. Billings,
Director, Office of Hazardous Materials, Special Permits and Approvals.

Modification Special Permits
Application & Docket No. | Applicant | Regulation(s) affected | Nature of special permit thereof
13424-M | Taminco Higher Amines, Inc., St. Gabriel, LA | 49 CFR 177.834 (i)(3) | To modify the special permit to authorize additional Class 3; 8 and Division 2.1; 5.1; 6.1 hazardous materials.
13598-M | Jadoo Power Systems, Inc., Folsom, CA | 49 CFR 173.301(a)(1), (d) and (f) | To modify the special permit to authorize DOT approved 100% ultrasonic examination method of DOT-Specification 3AL cylinders every five years in lieu of internal vision inspection and hydrostatic testing and remove the “No periodic retest is required” in paragraph 7b:.
14741-M | Weatherford International, Fort Worth, TX | 49 CFR 173.304 | To modify the special permit to authorize rail freight as an additional mode of transportation.

[FR Doc. 2010-1454 Filed 1-26-10; 8:45 am]

BILLING CODE 4909-60-P